DEPARTMENT OF ENERGY

Federal Energy Regulatory Commission

[Docket No. RM16-17-000]

Data Collection for Analytics and Surveillance and Market-Based Rate Purposes; Notice on Upcoming Triennial Filings

Notice is hereby given that triennial filings remain due in accordance with the schedule established in Appendix D to Order No. 697-A.¹ Pursuant to Order No. 860,² after February 1, 2022, Sellers ³ will submit market power analyses into the market-based rate relational database. For triennial filings due in December 2021, Sellers should continue to submit indicative screens and asset appendices in electronic spreadsheet format through the eFiling system.

¹ Mkt.-Based Rates for Wholesale Sales of Elec. Energy, Capacity & Ancillary Servs. by Pub. Utils., Order No. 697, 119 FERC ¶ 61,295, at P 540, clarified, 121 FERC ¶ 61,260 (2007), order on reh'g, Order No. 697-A, 123 FERC ¶ 61,055, at app. D, clarified, 124 FERC ¶ 61,055, order on reh'g, Order No. 697-B, 125 FERC ¶ 61,326 (2008), order on reh'g, Order No. 697-C, 127 FERC ¶ 61,284 (2009), order on reh'g, Order No. 697-D, 130 FERC ¶ 61,206 (2010), aff'd sub nom. Mont. Consumer Counsel v. FERC, 659 F.3d 910 (9th Cir. 2011).

² Data Collection for Analytics & Surveillance and Mkt.-Based Rate Purposes, Order No. 860, 168 FERC ¶ 61,039 (2019), order on reh'g, Order No. 860-A, 170 FERC ¶ 61,129 (2020).

³ A Seller is defined as any person that has authorization to or seeks authorization to engage in sales for resale of electric energy, capacity or ancillary services at market-based rates under section 205 of the Federal Power Act. 18 CFR 35.36(a)(1) (2021); 16 U.S.C. 824d.

Dated: December 17, 2021.
Kimberly D. Bose,
Secretary.

[FR Doc. 2021-27866 Filed 12-22-21; 8:45 am]

BILLING CODE 6717-01-P